DEPARTMENT OF LABOR

Office of the Secretary

Submission for OMB Review: Comment Request

April 5, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved collection.

Title: Report on Current Employment Statistics.

OMB Number: 1220-0011.

Form Number: BLS-790 Series.

Type of Response: Reporting.

Affected Public: Business or other for-profit; Not-for-profit institutions; Federal Government; and State, local, or tribal government.

Form | Number of respondents | Minutes per report | Frequency of response | Annual responses | Annual burden hours
A—Natural Resources and Mining | 1,400 | 11 | 12 | 16,800 | 3080
B—Construction | 12,800 | 11 | 12 | 153,600 | 28,160
C—Manufacturing | 18,000 | 11 | 12 | 216,000 | 39,600
E—Service Providing Industries | 153,300 | 11 | 12 | 1,839,600 | 337,260
G—Public Administration | 56,700 | 6 | 12 | 680,400 | 68,040
S—Education | 4,000 | 6 | 12 | 48,000 | 4,800
F1, F2, F3 Fax Forms | 36,400 | 11 | 12 | 436,800 | 80,080
Total | 282,600 |  |  | 3,391,200 | 561,020

Total Annualized capital/startup costs: $0.

Total Annual Costs (operating/maintaining systems or purchasing services): $0.

Description: In the Departments of Labor, Health and Human Services, and Education, and Related Agencies Appropriations Act of 2006, signed into law on December 30, 2005, Congress required the Current Employment Statistics (CES) program to collect data on women workers. This revision entrains the required change.

The Current Employment Statistics program provides current monthly statistics on employment, hours, and earnings, by industry. CES data on employment, hours, and earning by industry are among the most visible and widely-used Principal Federal Economic Indicators (PFEIs). CES data are also the timeliest of all PFEIs, with their release by BLS in the Employment Situation on the first Friday of most months.

Ira L. Mills,
Departmental Clearance Officer.

[FR Doc. E6-5180 Filed 4-7-06; 8:45 am]

BILLING CODE 4510-24-P